DEPARTMENT OF COMMERCE

International Trade Administration

[A-427-801, A-428-801, A-475-801, A-588-804, A-412-801]

Ball Bearings and Parts Thereof from France, Germany, Italy, Japan, and the United Kingdom: Preliminary Results of Antidumping Duty Administrative Reviews, Preliminary Results of Changed-Circumstances Review, Rescission of Antidumping Duty Administrative Reviews in Part, and Intent To Revoke Order In Part

Correction

In notice document 2010-9865 beginning on page 22384, in the issue of Wednesday, April 28, 2010, make the following correction:

On page 22390, in the first column, the first part of the table under the heading Preliminary Results of Reviews, should read:

Company | Margin (percent)
France
SKF France | 6.86
Microturbo SAS 6 | 6.86

* * * * *

[FR Doc. C1-2010-9865 Filed 5-12-10; 8:45 am]

BILLING CODE 1505-01-D